DEPARTMENT OF HOMELAND SECURITY

[Docket No. DHS-2011-0023]

Committee Name: Homeland Security Science and Technology Advisory Committee (HSSTAC)

ACTION: Committee Management; Notice of Federal advisory committee charter renewal.

SUMMARY: The Secretary of Homeland Security has determined that the renewal of the charter of the Homeland Security Science and Technology Advisory Committee (HSSTAC) is necessary and in the public interest in connection with the Department of Homeland Security, Science and Technology Directorate's performance of its duties. This determination follows consultation with the Committee Management Secretariat, General Services Administration.

Name of Committee: Homeland Security Science and Technology Advisory Committee (HSSTAC).

ADDRESSES: If you desire to submit comments on this action, they must be submitted by August 24, 2011. Comments must be identified by (DHS-2011-0023) and may be submitted by one of the following methods:

• Federal eRulemaking Portal: http://www.regulations.gov. Follow the instructions for submitting comments.

• E-mail: mary.hanson@dhs.gov. Include the docket number in the subject line of the message.

• Fax: 202-253-5823.

• Mail: Mary Hanson, HSSTAC Executive Director, Science and Technology Directorate, Department of Homeland Security, 245 Murray Lane, Bldg. 410, Washington, DC 20528.

• Instructions: All submissions received must include the words “Department of Homeland Security” and DHS-2011-0023, the docket number for this action. Comments received will be posted without alteration at http://www.regulations.gov including any personal information provided.

• Docket: For access to the docket to read background documents or comments received, go to http://www.regulations.gov.

FOR FURTHER INFORMATION CONTACT: Mary Hanson, HSSTAC Executive Director, Science and Technology Directorate, Department of Homeland Security, 245 Murray Lane, Bldg. 410, Washington, DC 20528, 202-254-5866 (O) 202-254-5823 (F), mary.hanson@dhs.gov.

Purpose and Objective: The committee addresses areas of interest and importance to the Under Secretary for Science and Technology, such as new developments in systems engineering, cyber-security, knowledge management and how best to leverage related technologies funded by other federal agencies and by the private sector. The committee also advises the Under Secretary on policies, management processes, and organizational constructs as needed. Upon request, the committee provides scientifically- and technically-based advice to the Homeland Security Advisory Council.

Duration: The committee's charter is effective June 21, 2011 and expires June 21, 2013.

Responsible DHS Officials: Mary Hanson, HSSTAC Executive Director, Science and Technology Directorate, Department of Homeland Security, 245 Murray Lane, Bldg. 410, Washington, DC 20528, 202-254-5866 (O) 202-254-5823 (F), mary.hanson@dhs.gov.

Dated: July 5, 2011.
Tara O'Toole,
Under Secretary for Science and Technology.

[FR Doc. 2011-17547 Filed 7-12-11; 8:45 am]

BILLING CODE 4410-9F-P